ENVIRONMENTAL PROTECTION AGENCY

[FRL-8923-7]

Proposed CERCLA Administrative Cashout Settlement; Anderson-Calhoun Mine and Mill Site, Leadpoint, WA

AGENCY: Environmental Protection Agency (EPA).

ACTION: Notice; request for public comment.

SUMMARY: In accordance with Section 122(i) of the Comprehensive Environmental Response, Compensation, and Liability Act, as amended (CERCLA), 42 U.S.C. 9622(i), notice is hereby given of a proposed administrative settlement for recovery of past and projected future response costs concerning the Anderson-Calhoun Mine and Mill Site in Leadpoint, Washington, with settling parties: The Goldfield Corporation and Combustion Engineering, Inc. The settlement requires the settling parties to pay Three Hundred and Fifty Seven Thousand Dollars ($357,000) to the Hazardous Substance Superfund. The settlement includes a covenant not to sue or take administrative action against the settling party pursuant to Sections 106 or 107(a) of CERCLA, 42 U.S.C. 9606 or 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the U.S. EPA Region 10 offices, located at 1200 Sixth Avenue, Seattle, Washington 98101.

DATES: Comments must be submitted on or before July 29, 2009.

ADDRESSES: The proposed settlement is available for public inspection at the U.S. EPA Region 10 offices, located at 1200 Sixth Avenue, Seattle, Washington 98101. A copy of the proposed settlement may be obtained from Carol Kennedy, Regional Hearing Clerk, U.S. EPA Region 10, Mail Stop ORC-158, 1200 Sixth Avenue, Suite 900, Seattle, Washington 98101; (206) 553-0242. Comments should reference the Anderson-Calhoun Mine and Mill Site in Leadpoint, Washington, EPA Docket No. CERCLA-10-2009-0095 and should be addressed to Alexander Fidis, Assistant Regional Counsel, U.S. EPA Region 10, Mail Stop ORC-158, 1200 Sixth Avenue, Suite 900, Seattle, Washington 98101.

FOR FURTHER INFORMATION CONTACT: Alexander Fidis, Assistant Regional Counsel, U.S. EPA Region 10, Mail Stop ORC-158, 1200 Sixth Avenue, Suite 900, Seattle, Washington 98101; (206) 553-4710.

SUPPLEMENTARY INFORMATION: The Anderson-Calhoun Mine and Mill site is located in Leadpoint, Stevens County, Washington (Site). Site operations conducted between 1910 and the early 1980s included the mining and milling of zinc ore, and the milling of barite ore. Waste-rock and mill tailings produced by these operations were disposed at the Site in areas around the mill building and in a raised tailings impoundment. The waste-rock and tailings at the Site contain hazardous substances including barium, cadmium, copper, lead, selenium and zinc at concentrations that exceed applicable cleanup levels. The Agency has selected a removal action to address potential or actual threats that these substances may present to public health, welfare, or the environment.

The Goldfield Corporation and Combustion Engineering, Inc., two prior owners and operators of the Site, have jointly spent approximately $465,000 to investigate and study the Site, assess cleanup alternatives, and to develop draft plans for the removal action. The Agency is proposing to enter into an administrative settlement with both parties for a payment of $357,000. These funds will be deposited in a site-specific account and will be used to reimburse the Agency for its past costs and for future response costs at the Site. The proposed settlement will provide the settling parties with a release of liability subject to certain rights reserved by the Agency.

Dated: June 22, 2009.
Linda Anderson-Carnahan,
Acting Director, Office of Environmental Cleanup.

[FR Doc. E9-15284 Filed 6-26-09; 8:45 am]

BILLING CODE 6560-50-P